NATIONAL SCIENCE FOUNDATION

Advisory Committee for Biological Sciences; Notice of Meeting

In accordance with the Federal Advisory Committee Act (Pub. L. 92-463, as amended), the National Science Foundation announces the following meeting:

Name: Advisory Committee for Biological Sciences (BIO) (1110).

Date and Time: November 18, 2004; 8:30 a.m.-5 p.m., November 19, 2004; 8:30 a.m.-3 p.m.

Place: National Science Foundation, 4201 Wilson Blvd., Arlington, VA 22230, Room 375.

Type of Meeting: Open.

Contact Person: Dr. Mary E. Clutter, Assistant Director, Biological Sciences, Room 605, National Science Foundation, 4201 Wilson Blvd., Arlington, VA 22230 Tel No.: (703) 292-8400.

Minutes: May be obtained from the contact person listed above.

Purpose of Meeting: The Advisory Committee for BIO provides advice, recommendations, and oversight concerning major program emphases, directors, and goals for the research-related activities of the divisions that make up BIO.

Agenda: Planning and Issues Discussion:

• Committee of Visitors Report

• Education and Outreach Activities

• Subcommittee Reports

Dated: October 19, 2004.
Susanne Bolton,
Committee Management Officer.

[FR Doc. 04-23818 Filed 10-25-04; 8:45 am]

BILLING CODE 7555-01-M